DEPARTMENT OF DEFENSE

Department of the Army; Corps of Engineers

Public Scoping Meeting and Preparation of Environmental Impact Statement for Baryonyx Corporation, Inc.'s Proposed Wind Farm, Offshore, Willacy and Cameron Counties, TX

AGENCY: Department of the Army, U.S. Army Corps of Engineers, DoD.

ACTION: Notice of Intent.

SUMMARY: The U.S. Army Corps of Engineers, Galveston District, has received a permit application for a Department of the Army (DA) Permit pursuant to Section 10 of the Rivers and Harbors Act of 1899 (33 U.S.C. 403) and Section 404 of the Clean Water Act (33 U.S.C. 1344) from Baryonyx Corporation, Inc. (SWG-2011-00511) for the proposed approximately 300-turbine offshore wind farm located in the Gulf of Mexico state waters, offshore Willacy and Cameron Counties in state tracts: 1068, 1069, 1085, 1086, 1087, 1088, 1089, 1090, 1126, 1127, 1129, 1130 and 1131. The primary Federal involvement associated with the proposed action is the discharge or dredged or fill material into waters of the United States, and the construction of structures that may affect navigable waters. Federal authorizations for the proposed project would constitute a “major federal action.” Based on the potential impacts, both individually and cumulatively, the Corps intends to prepare an Environmental Impact Statement (EIS) in compliance with the National Environmental Policy Act to render a final decision on the permit applications.

The Corps' decision will be to issue, issue with modification or deny DA permits for the proposed action. The EIS will assess the potential social, economic and environmental impacts of the construction and operation of the offshore wind farm, associated facilities, and appurtenances and is intended to be sufficient in scope to address Federal, State and local requirements, environmental and socio-economic issues concerning the proposed action, and permit reviews.

DATES: The agency must receive comments on or before May 14, 2012.

ADDRESSES: You may submit comments by any of the following methods: Mail: Jayson M. Hudson, U.S. Army Corps of Engineers, Regulatory Branch, P.O. Box 1229, Galveston, TX 77553-1229; Fax: (409) 766-3931 or Email: SWG2011511@usace.army.mil. Emailed comments, including attachments, should be provided in .doc, .docx, .pdf or .txt formats. Documents pertinent to the proposed project may be examined at http://www.swg.usace.army.mil/reg/eis.asp.

FOR FURTHER INFORMATION CONTACT: Mr. Jayson Hudson, (409) 766-3108.

SUPPLEMENTARY INFORMATION: The Galveston District intends to prepare an EIS on the proposed Baryonyx offshore wind farm which would include the proposed construction of approximately 300 offshore turbines in the Gulf of Mexico offshore Willacy and Cameron Counties, TX. Baryonyx Corporation, Inc. proposed this project and is the applicant for the DA permit SWG-2011-00511.

1. Project Background: The applicant proposes to construct an approximately 300-turbine wind farm in two areas referred to as the North Rio Grande Lease and Rio Grande Lease. The project is located in Gulf of Mexico state waters, offshore Willacy and Cameron Counties in state tracts: 1068, 1069, 1085, 1086, 1087, 1088, 1089, 1090, 1126, 1127, 1129, 1130 and 1131. The proposed project consists of the following:

a. Wind Turbines and Foundations: Each lease site will be comprised of 100-200 wind turbine generators in a grid pattern (turbine array). The final locations will be determined by consultation with appropriate state and federal agencies and consideration of constraints including: wind resource characteristics; safety and navigation; technical characteristics of the wind turbine generators; electrical collection system characteristics; geophysical site constraints; and environmental and ecological considerations. The specific turbine has not been selected so that Baryonyx may take advantage of the latest technologies in wind generation which may become commercially available at the time of procurement. Turbines will be installed onto individual platform foundations attached to the seabed. Foundation type and design will be determined based on the technical requirements of the selected turbines, soils profile, depth, and site conditions. Typical foundations may include monopole, gravity based, suction caisson, or jacket structures. Scour protection in the form of prefabricated materials or clean stone may be placed at the base of the foundations.

b. Transmission Lines: Installation of up to 4 substations will be required in each lease to reduce the number of transmission lines to shore and reduce electricity loss. Offshore substations gather electricity from the rows of turbines through an inter-array of subsea cables and convert it into a higher voltage. Transforming power into a higher voltage allows for the installation of fewer export cables, more efficient transmission of power and minimizes power loss. The inter-array cables will be buried to a target depth of 3 feet and 18 inches wide, but will be dependent on the nature of the seabed. Connection between turbines and the substation platform is pre-installed j-tubes which protect the cable from the seabed to topside. To transfer the electricity to shore, up to 2 transmission lines per substation will be installed which connect the offshore substation to onshore electrical facilities. The dimension of the cables is in the range of 10 inches. However, for redundancy and safety issues, the transmission lines will be kept separate. Routing will be designed to minimize impacts to natural and cultural resources by following previously disturbed areas and areas devoid of vegetation, reefs, seagrasses, dunes and other valuable habitats. Scheduling of the work will also take into consideration minimization of impacts to marine mammals, sea turtles, birds, fisheries and other natural resources.

c. Planning and Construction: Prior to Construction, Baryonyx Corporation will conduct the necessary surveys and studies to describe and quantify natural resources. These studies will include geophysical geotechnical survey, delineation of aquatic habitats, and cultural resource surveys. Onshore construction and assembly will utilize existing port facilities. No new onshore or port facilities are anticipated to be constructed.

d. Mitigation: The Applicant proposes to avoid impacts to special aquatic sites and sensitive sea areas where practicable. No surface areas or wetlands are proposed to be filled at this time other than temporary side-cast material from trench construction. Horizontal drilling for burial of cables will be considered under unavoidable wetlands, seagrass beds, reefs and dunes where practicable.

2. Scoping and Public Involvement Process: A Public Notice was published on June 15, 2011 to initiate the public scoping process for the proposed project. At that time, based on information provided by the Applicant, a preliminary review indicated that an Environmental Impact Statement (EIS) was not required. However, based on continuing permit assessment and information brought forth during the initial coordination process, areas of potential significant impact on the human environment have been identified. Therefore, the EIS process is being implemented so that the permit application can be fully evaluated and a permit decision can be made. All comments received to date, including those provided for review during the Public Notice comment period, will be considered by the Galveston District during EIS preparation. The purpose of the EIS scoping meeting is to gather information on the subjects to be studied in detail by the EIS. In addition to the EIS, the Applicant has avoided and minimized impacts identified during the public notice comment period by removing the Mustang site, and its alternate, from consideration during this permit application. While the Applicant's minimization effort is designed to avoid potential impacts to the Padre Island National Seashore and Naval Air Station Corpus Christi, it is without prejudice to apply for these sites at another date.

3. Purpose and Need. The basic purpose of the proposed action is to construct a power generation facility. The overall purpose is to provide electrical generation capacity for current markets in Texas and potential sale in the wholesale market utilizing wind resources offshore. The Corps recognizes that there is a public and private need for additional power generation.

4. Alternatives. An evaluation of alternatives to the Applicant's preferred alternative initially being considered includes a No Action alternative, alternatives that would avoid, minimize and compensate for impacts to the aquatic environment within the project footprint, alternatives that would avoid, minimize and compensate for impacts to the aquatic environment outside of the footprint, alternatives utilizing alternative practices, and other reasonable alternatives that will be developed through the project scoping process which may also meet the identified purpose and need.

5. Public Involvement. The purpose of the public scoping process is to determine relevant issues that will influence the scope of the environmental analysis and EIS alternatives. General concerns in the following categories have been identified to date: potential direct effects to waters of the United States including wetlands; water quality; aquatic species; air quality; environmental justice; socioeconomic environment; archaeological and cultural resources; recreation and recreational resources; energy supply and natural resources; hazardous waste and materials; aesthetics; public health and safety; navigation; erosion and accretion; invasive species; cumulative impacts; public benefit and needs of the people along with potential effects on the human environment. All parties who express interest will be given an opportunity to participate in the process.

6. Coordination. The proposed action is being coordinated with a number of Federal, State, regional and local agencies including but not limited to the Environmental Protection Agency, the United States (U.S.) Fish and Wildlife Service, U.S. National Marine Fisheries Service, the Texas Commission on Environmental Quality, the Texas General Land Office, and the Texas Parks and Wildlife Department.

7. Availability of the Draft EIS. The Corps currently expects the Draft EIS to be made available to the public by December 2014. A State and Federal agency scoping meeting will be held at Holiday Inn Brownsville at 2 p.m. on March 28, 2012. A public scoping meeting will be held at the Holiday Inn Brownsville on March 28, 2012 at 6 p.m. The Holiday Inn Brownsville is located at 3777 North Expressway, Brownsville, TX 78520. The Corps will announce the public scoping meeting through local news media and the Corps' Web page at http://www.swg.usace.army.mil/reg at least 15 days prior to the first meeting.

Brenda S. Bowen,
Army Federal Register Liaison Officer.

[FR Doc. 2012-6128 Filed 3-13-12; 8:45 am]

BILLING CODE 3720-58-P